DEPARTMENT OF HOMELAND SECURITY

Coast Guard

33 CFR Part 117

[USCG-2009-0228]

Drawbridge Operating Regulations; Back Bay of Biloxi, Biloxi, MS

AGENCY: Coast Guard, DHS.

ACTION: Notice of temporary deviation from regulations.

SUMMARY: The Commander, Eighth Coast Guard District, has issued a temporary deviation from the regulation governing the operation of the I-110 bascule span bridge across the Back Bay of Biloxi, mile 3.0, in Biloxi, Harrison County, Mississippi. This deviation provides for the bridge to remain closed to navigation for two (2) two-hour periods daily to facilitate the movement of vehicular traffic.

DATES: This deviation is effective from 6:30 a.m. on Friday, March 27, 2009 until 6 p.m. on Monday, September 21, 2009.

ADDRESSES: Documents indicated in this preamble as being available in the docket are part of docket USCG-2009-0228 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the office of the Eighth Coast Guard District, Bridge Administration Branch, Hale Boggs Federal Building, Room 1313, 500 Poydras Street, New Orleans, Louisiana 70130-3310 between 7 a.m. and 3 p.m., Monday through Friday, except Federal holidays.

FOR FURTHER INFORMATION CONTACT: David Frank, Bridge Administration Branch, telephone (504) 671-2128.

SUPPLEMENTARY INFORMATION: The Mississippi Department of Transportation (MDOT) has requested a temporary deviation in order to improve the traffic flow of vehicles over the I-110 bascule bridge across the Back Bay of Biloxi, mile 3.0, in Biloxi, Harrison County, Mississippi. On Friday, March 20, 2009, the Popps Ferry Bridge across the Back Bay of Biloxi, mile 8.0 was damaged by a vessel allision, rendering the drawbridge inoperable for an estimated period of six months. Vehicular traffic that would normally transit across the Popps Ferry Bridge was required to find alternate routes to cross the Back Bay of Biloxi. A significant amount of these vehicles are now required to use the I-110 Bridge until the Popps Ferry Bridge is returned to service. MDOT, at the request of the local government, has requested that the draw of the I-110 bridge remain closed to navigation from 6:30 a.m. until 8:30 a.m. and from 4 p.m. until 6 p.m. daily for a period of 180 days or until the Popps Ferry Bridge is returned to service, whichever occurs first.

Presently, as per 33 CFR 117.675(a), the draw of the I-110 bridge, mile 3.0 at Biloxi shall open on signal if at least six hours notice is given. The vertical clearance of the drawbridge in the closed-to-navigation position is 60 feet above mean high water.

Navigation on the waterway consists of tugs with tows, commercial fishing vessels and recreational powerboats and sailboats. Due to the amount of vertical clearance of the drawbridge in the closed-to-navigation position, this deviation should have a minimal effect on vessels transiting the waterway. No alternate route is available.

In accordance with 33 CFR 117.35(e), the drawbridge must return to its regular operating schedule immediately at the end of the designated time period. This deviation from the operating regulations is authorized under 33 CFR 117.35.

Dated: March 27, 2009.
David M. Frank,
Bridge Administrator.

[FR Doc. E9-8267 Filed 4-10-09; 8:45 am]

BILLING CODE 4910-15-P